DEPARTMENT OF THE INTERIOR

Fish and Wildlife Service

Notice of Receipt of Applications for Permit

The following applicants have applied for a permit to conduct certain activities with endangered species. This notice is provided pursuant to Section 10(c) of the Endangered Species Act of 1973, as amended (16 U.S.C. 1531, et seq.):

PRT-021886

Applicant: Timothy Micale, Falls Creek, PA

The applicant requests a permit to import the one female African dwarf crocodile (Osteolaemus tetraspis tetraspis) from Mr. Rene Hedegaard, Eskiidstruo, Denmark, for the purpose of enhancement of the survival of the species through propagation.

PRT-023231

Applicant: Richard Olsen, Santa Cruz, CA

The applicant requests a permit to import six viable eggs of the Chinese monal pheasant (Lophophorus lhuysii) from the Sichuan Forestry Department, Baoxing, China under a cooperative agreement to study the hatching for the purpose of captive propagation for the enhancement of the survival of the species.

PRT-023461

Applicant: Zoological Society of San Diego, San Diego, CA

The applicant requests a permit to export one male and one female captive-hatched Andean condors (Vultur gryphus) to the Ministry of the Environment of Colombia for release in the Colombian Andes for enhancement of the survival of the species.

Written data or comments should be submitted to the Director, U.S. Fish and Wildlife Service, Office of Management Authority, 4401 North Fairfax Drive, Room 700, Arlington, Virginia 22203 and must be received by the Director within 30 days of the date of this publication. Documents and other information submitted with these applications are available for review, subject to the requirements of the Privacy Act and Freedom of Information Act, by any party who submits a written request for a copy of such documents to the following office within 30 days of the date of publication of this notice:

U.S. Fish and Wildlife Service, Office of Management Authority, 4401 North Fairfax Drive, Room 700, Arlington, Virginia 22203. Phone: (703/358-2104); FAX: (703/358-2281).

Dated: February 20, 2000.
Kristen Nelson,
Chief, Branch of Permits, Office of Management Authority.

[FR Doc. 00-5126 Filed 3-2-00; 8:45 am]

BILLING CODE 4310-55-U